DEPARTMENT OF LABOR

Employment And Training Administration

[TA-W-55,045]

Merrow Machine Company, Newington, Connecticut; Notice of Negative Determination Regarding Application for Reconsideration

By application of July 24, 2004, International Union of Electronic, Electrical, Salaried, Machine and Furniture Workers -Communications Workers of America, Local No. 249 requested administrative reconsideration of the Department's negative determination regarding eligibility to apply for Trade Adjustment Assistance (TAA), applicable to workers and former workers of the subject firm. The denial notice was signed on July 13, 2004, and published in the Federal Register on August 3, 2004 (69 FR 46574).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Merrow Machine Company, Newington, Connecticut engaged in production of industrial sewing machines was denied because the “contributed importantly” group eligibility requirement of section 222 of the Trade Act of 1974, as amended, was not met. The “contributed importantly” test is generally demonstrated through a survey of the workers' firm's customers. The survey revealed no increase of imports of industrial sewing machines during the relevant period. The subject firm did not import industrial sewing machines in the relevant period nor did it shift production to a foreign country.

The petitioner alleges that the subject company shipped products to several foreign countries, including China, Russia and Japan, thus workers of the subject firm should be eligible for TAA.

As trade adjustment assistance is concerned exclusively with whether imports or a shift in production to a trade impacted country causes layoffs of petitioning worker groups, the above-mentioned allegation regarding subject firm's exports of products is irrelevant.

A company official was requested to provide the additional list of all the remaining customers which were not surveyed during the original investigation. All customers provided by a company official during the reconsideration represent foreign firms.

The petitioner further alleges that the subject firm lost its business due to an impact of the foreign competition on textile industry.

In order to establish import impact, the Department must consider imports that are like or directly competitive with those produced at the subject firm. The Department conducted a survey of the subject firm's major declining domestic customers regarding their purchases of industrial sewing machines. The survey revealed that the declining customers did not import industrial sewing machines during the relevant period.

Conclusion

After review of the application and investigative findings, I conclude that there has been no error or misinterpretation of the law or of the facts which would justify reconsideration of the Department of Labor's prior decision. Accordingly, the application is denied.

Signed in Washington, DC this 26th day of August, 2004.
Elliott S. Kushner,
Certifying Officer, Division of Trade Adjustment Assistance.

[FR Doc. E4-2096 Filed 9-7-04; 8:45 am]

BILLING CODE 4510-30-P